DEPARTMENT OF JUSTICE

Office of Justice Programs

[OJP(OJP)-1340]

Notice of Intent To Prepare an Environmental Impact Statement (EIS) and Environmental Impact Report (EIR) for the Alameda County Government Center, Including a New Juvenile Justice Facility in the City of Dublin, Alameda County, California

AGENCY: Office of Justice Programs, Justice.

ACTION: Notice of intent (NOI).

SUMMARY: Alameda County (California) proposes to approve a master plan and develop a government center in the East County area, specifically in the City of Dublin, California. The government center is proposed to include a courthouse (15 adult courts), 250,000 square feet of County offices, parking facilities, related site improvements, and a new Juvenile Justice facility with 420 beds, juvenile courts, administration, and associated support facilities (approximately 400,000 square feet total). The Juvenile Justice Facility component of the government center is proposed in response to serious shortcomings in the capability of the existing facility located in San Leandro, California to serve existing and future needs of children in the County. The government center would be developed on a 40-acre County-owned site located at the northern terminus of Hacienda Drive, bounded by Gleason Drive on the south, Arnold Road on the west, Broder Blvd. on the north, and Madigan Avenue on the east. The proposed Alameda County Juvenile Justice project would be funded in part by federal grant monies disbursed by the California Board of Corrections. These funds total $33,165,000, and are part of the State's allocation from the Violent Offender Incarceration and Truth-in-Sentencing (VOI/TIS) Incentive Grant Program. The County would provide additional funding from bonds, certificates of participation, and the general fund. The total cost for the Juvenile Justice Facility is estimated to be approximately $177,000,000.

The Department of Justice, the California Board of Corrections and Alameda County are preparing a joint Environmental Impact Statement and Environmental Impact Review (EIS/EIR) document in order to satisfy the requirements of the National Environmental Policy Act (NEPA) and the California Environmental Quality Act (CEQA) concurrently. The U.S. Department of Justice is the lead federal agency under NEPA for the preparation of the EIS/EIR and the California Board of Corrections will be preparing the EIS/EIR under a provision of NEPA that allows an agency of statewide jurisdiction with responsibility for the proposed action (pursuant to the VOI/TIS grant) to prepare an EIS. Alameda County will be the lead agency under CEQA for the preparation of the EIS/EIR for the master plan for the government center as well as the Juvenile Justice Facility.

DATES: Public scoping meetings will be held in the City of Dublin, County of Alameda, California, within thirty days of the date of this publication. In accordance with the U.S. Department of Justice, Office of Justice Programs, Corrections Programs Office, Program Guidance on Environmental Protection Requirements, a notice will be published in a non-legal section of at least two editions of a newspaper of general circulation in the area of the proposed action announcing the date, time, and location of the meeting as well as briefly summarizing its purpose.

The public, as well as Federal, State, and local agencies are encouraged to participate in the scoping meetings. Comments may also be submitted in writing, identifying relevant environmental and socioeconomic issues to be addressed in this environmental analysis. Comments and information should be mailed to Ms. Jill Young of the Department of Justice or Mr. Michael Houghtby of the California Board of Corrections at the addresses listed below. Requests to be placed on the mailing list for announcements and the Draft EIS/EIR should also be sent to Ms. Jill Young or Mr. Michael Houghtby.

FOR FURTHER INFORMATION CONTACT: Ms. Jill Young, Environmental Coordinator, Department of Justice, Office of Justice Programs, Corrections Programs Office, 810 7th Street, NW, Washington, DC 20531, Telephone (202) 353-7302, Fax (202) 307-2019, or contact Mr. Michael Houghtby, Field Representative, State of California Board of Corrections, Corrections Planning and Programs Division, 600 Bercut Dr, Sacramento, CA 95814, Telephone (916) 322-7085; Fax (916) 445-5796.

SUPPLEMENTARY INFORMATION: The proposed Juvenile Justice Facility is intended to replace the existing Alameda County Juvenile Hall, which is located in the hills of San Leandro, Alameda County, California. The existing facility was constructed in various phases with most structures dating from the 1950s to 1970s. It includes secure detention at the Juvenile Hall facility for 299 detainees, camps for low security detention, and the Chabot Community Day Center. The detention facility is constructed on a steep hillside in close proximity to the Hayward fault, an active earthquake fault with a potential for causing severe ground shaking with an estimated 32% chance of a major seismic event during the next 30 years. In addition, these facilities, which routinely are overcrowded, have or will soon exceed their useful, economic life and are in need of replacement, based on operational and architectural/engineering evaluations. Therefore, the facility does not meet the present or future needs of the residents, staff or community and must be replaced.

A juvenile justice system master plan completed in 1998 determined that the County needed to construct a new juvenile detention facility that would house up to 540 youth at any given time. The facility would respond to the approximately 10,000 annual referrals for intake, of which 6,000 are admitted for detention in a given year. The estimated total number of beds required for a new detention facility was based on historical trends and projections, multiplied by a factor of 1.2 to account for peaking, classification and operational needs, so that the County could house youth in a facility that reflects the detainees' gender, age, and security risk, to avoid crowding, and to provide for long-term planning. The County Board of Supervisors has since revised the project to include 420 beds, with a possible capacity of 450 beds. The environmental effects of this project and several alternatives will be evaluated in the EIS/EIR.

Alternatives: The EIS/EIR will consider the No Project/No Action Alternative, as required by CEQA and NEPA. Under such a scenario, the existing Juvenile Hall facility, courts, and County offices would remain in their present locations and no Master Plan would be approved for the Dublin site.

The EIS/EIR will also discuss and evaluate certain other alternatives, which may include: an alternative location for the Juvenile Justice Facility, including development of a replacement facility at the existing site in San Leandro; development of a split campus with part of the project in Dublin and part in San Leandro; or other locations to be determined during the environmental review process.

The EIS/EIR will also consider variations in the project size, such as a reduced or increased number of beds at the Juvenile Justice facility, or a reduced or increased number of courts at the East County Hall of Justice.

The EIS/EIR will also discuss policy alternatives that are under consideration, such as increased community placement and monitoring of youth offenders.

Dated: January 10, 2002.
Deborah Daniels,
Assistant Attorney General, Office of Justice Programs.

[FR Doc. 02-999 Filed 1-14-02; 8:45 am]

BILLING CODE 4410-18-P